DEPARTMENT OF EDUCATION

[CFDA No: 84.305T]

Office of Educational Research and Improvement (OERI) Field-Initiated Studies (FIS) Education Research Grant Program; Notice of Application Review Procedures for New Awards for Fiscal Year (FY) 2000

SUMMARY: On November 9, 1999, we published in the Federal Register (64 FR 61198) a notice inviting applications for new awards for FY 2000 for the FIS Education Research Grant Program. This notice explains the procedures that we will use to review your application.

SUPPLEMENTARY INFORMATION:

Application Review Procedure

We will use a two-tier review process for the FIS program competition for FY 2000. This two-tier process and scoring system are authorized by and in accordance with OERI program regulations at 34 CFR Part 700, particularly sections 700.21 and 700.30.

Tier I. At the Tier I level, your application will be assigned to at least three reviewers who are selected according to the appropriateness of their expertise and experience and who specifically meet the qualifications for reviewers established in the regulations at 34 CFR 700.11. Reviewers will evaluate your application in accordance with the three selection criteria in the application package:

(1) National Significance.

(2) Quality of the Project Design.

(3) Quality and Contribution of Personnel.

Reviewers will weigh the three selection criteria equally to rate your application for further consideration as either—

(1) Very highly recommended;

(2) Highly recommended;

(3) Recommended;

(4) Not recommended, but recommended for resubmission; or

(5) Not recommended.

We will arrange a conference call for each review panel to discuss their assigned applications and their rankings. For each application, reviewers will read only 20-page narratives. As noted in the application package, the application narrative must not exceed a total of 20 double-spaced pages, with printing on one side of 8½ x 11-inch paper. All pages in excess of the 20-page narrative maximum will be removed, unread, and returned to the applicant.

Based on the Tier I reviews, the top 40 applications will advance to the Tier II review. For every rating an application receives, we will determine the top 40 applications by assigning one of the following scores to your application:

(1) 5 for every “very highly recommended”;

(2) 2 for every “highly recommended”;

(3) 1 for every “recommended” rating; or

(4) 0 for either of the “not recommended” ratings.

In the event of a tie at the 40th rank, all tied applications will advance to the Tier II review.

Tier II. If your application advances to the Tier II level, it will be read and rated by 23 to 27 Tier II reviewers, with written reviews completed by at least 3 reviewers. These reviewers will meet the qualification for reviewers established in 34 CFR 700.11. The Tier II reviewers will apply the same selection criteria as was used in Tier I. In Tier II the reviewers will rate your application as—

(1) Extremely Competitive;

(2) Very Competitive;

(3) Competitive; or

(4) Not Competitive.

The Tier II reviewers will meet in Washington, DC. During this meeting, each application will be discussed with the three reviewers who have completed written reviews leading the discussion. Following the discussion of each application, all reviewers will assign a final rating to the application.

When all the applications from Tier II have been discussed and reviewers have completed their evaluations, we will rank the applications to form the recommended slate. We will form the slate according to the following score your application receives:

(1) 3 for each “Extremely Competitive” rating;

(2) 2 for each “Very Competitive” rating;

(3) 1 for each “Competitive” rating; or

(4) 0 for each “Not Competitive” rating.

Applications will then be ranked by average score. In the event that a group of applications at the funding cut-off point have an identical score, the Assistant Secretary will determine which application or applications from that group fill the most critical gaps in existing education research.

Waiver of Proposed Rulemaking

In accordance with the Administrative Procedure Act (5 U.S.C. 553), it is the practice of the Secretary to offer interested parties the opportunity to comment on proposed regulations. However, because this notice merely establishes procedural requirements for review of applications and does not create substantive policy, proposed rulemaking is not required under 5 U.S.C. 553(b)(A).

(The valid OMB control number for this collection of information is 1850-0601.)

FOR FURTHER INFORMATION CONCTACT: Delores Monroe, Office of Educational Research and Improvement, U.S. Department of Education, 555 New Jersey Avenue, NW, room 627f, Washington, DC 20208. Telephone: (202) 219-2229. (E-mail Delores_Monroe@ed.gov). If you use a telecommunications device for the deaf (TDD), you may call the Federal Information Relay Service (FIRS) at 1-800-877-8339.

Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at:

http://www.access.gpo.gov/nara/index.html

Program Authority: 20 U.S.C. 6031(c)(2)(B).

Dated: February 23, 2000.
C. Kent McGuire,
Assistant Secretary for Educational Research and Improvement.

[FR Doc. 00-4770 Filed 2-28-00; 8:45 am]

BILLING CODE 4000-01-U